DEPARTMENT OF HEALTH AND HUMAN SERVICES

Agency for Toxic Substances and Disease Registry

[ATSDR-208]

Availability of Public Health Assessment Guidance Manual (Update)

AGENCY: Agency for Toxic Substances and Disease Registry (ATSDR), Department of Health and Human Services (HHS).

ACTION: Notice.

SUMMARY: This notice announces the availability of the ATSDR Public Health Assessment Guidance Manual (Update). ATSDR is mandated to conduct public health assessment activities at all sites on, or proposed for inclusion on, the National Priorities List (NPL). ATSDR can also conduct public health assessments in response to a request from the public for an evaluation of active waste sites, landfills, and other possible releases of hazardous substances to the environment.

ADDRESSES: The Public Health Assessment Guidance Manual is available to the public by mail from the U.S. Department of Commerce, National Technical Information Service (NTIS), 5285 Port Royal Road, Springfield, VA 22161, or by telephone at (703) 487-4650. There is a charge, determined by NTIS, for the manual. The NTIS order number for this document is PB2005-102123.

The Public Health Assessment Guidance Manual is also available on the ATSDR Web site at http://www.atsdr.cdc.gov/HAC/PHAManual/index.html.

FOR FURTHER INFORMATION CONTACT: William Cibulas, Ph.D., Director, Division of Health Assessment and Consultation, ATSDR, 1600 Clifton Road, NE., Mailstop E-32, Atlanta, Georgia 30333, telephone (404) 498-0007.

SUPPLEMENTARY INFORMATION: ATSDR is required by section 104(i) of the Comprehensive Environmental Response, Compensation, and Liability Act (CERCLA) to conduct health assessment activities at all sites on, or proposed for inclusion on, the NPL (42 U.S.C. 9604(i)(6)(A)). ATSDR may also conduct health assessments in response to a request from the public (42 U.S.C. 9604(i)(6)(B)). In addition, the U.S. Environmental Protection Agency may request the conduct of a health assessment under the Resource Conservation and Recovery Act (RCRA) (42 U.S.C. 6939a(b)).

The general procedures for the conduct of public health assessments are included in the ATSDR regulation, “Health Assessments and Health Effects Studies of Hazardous Substances Releases and Facilities' (42 CFR part 90).

The ATSDR public health assessment is the evaluation of data and information on the release of hazardous substances into the environment to assess any current or future impact on public health, develop health advisories or other recommendations, and identify studies or actions needed to evaluate, mitigate, or prevent human health effects.

The ATSDR public health assessment includes an analysis and statement of the public health implications posed by the site under consideration. This analysis generally involves an evaluation of relevant environmental data, exposure pathways, community health concerns, and, when appropriate, health outcome data. The public health assessment also identifies populations living or working on or near hazardous waste sites for which more extensive public health actions or studies are indicated.

The Public Health Assessment Guidance Manual (Update) sets forth in detail the public health assessment process as developed by ATSDR and clarifies the methodologies and guidelines used by ATSDR staff and agents of ATSDR in conducting the assessments. The manual is not intended to supplant the professional judgment and discretion of the health assessor (or the public health assessment team) compiling and analyzing data, drawing conclusions, and making public health recommendations. Instead, the manual offers a systematic approach for evaluating the public health implications of hazardous waste sites, while still allowing the health assessors to develop new approaches to the process and apply the most current and appropriate science and methodology.

This manual replaces the previous guidance manual that was released on May 18, 1992. The manual has been updated and expanded to reflect current scientific knowledge and public health practices. For example, the manual expands the description of how to select environmental contaminants for further analysis and how to conduct an in-depth analysis of their potential to cause adverse health effects. Other revisions include new guidance on the evaluation of health outcome data and exposure to chemical mixtures.

This notice announces the availability of the revised manual. The manual has undergone extensive internal review, has been subjected to scientific peer review by experts both within and outside the Federal government, and was available for public comment from April 2, 2002, to June 3, 2002, Federal Register 67 15574, April 2, 2002.

Dated: February 23, 2005.
Georgi Jones,
Director, Office of Policy, Planning, and Evaluation, National Center for Environmental Health and Agency for Toxic Substances and Disease Registry.

[FR Doc. 05-3983 Filed 3-1-05; 8:45 am]

BILLING CODE 4163-70-P